FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Securities of Insured Nonmember Banks.

OMB Number: 3064-0030.

Form Number: F-7, F-8, and F-8A.

Annual Burden:

Estimated annual number of respondents: 1,755.

Number of Responses per Respondent: 1.35.

Estimated time per response: 0.62 hours.

Total annual burden hours: 1,470 hours.

Expiration Date of OMB Clearance: July 31, 2003.

SUPPLEMENTARY INFORMATION: The information is collected from FDIC-supervised banks and from officers, directors and shareholders subject to the securities registration requirements of the Securities Exchange Act of 1934, as amended. The information is considered necessary for actual and potential investors making investment decisions concerning securities issued by reporting banks.

2. Type of Review: Renewal of a currently approved collection.

Title: Fair Housing Lending Monitoring System.

OMB Number: 3064-0046.

Annual Burden:

Estimated annual number of respondents: 2,000.

Estimated Annual Number of Loan Applications: 1,000,000.

Estimated time per response: 5 minutes.

Total annual burden hours: 83,333 hours.

Expiration Date of OMB Clearance: July 31, 2003.

SUPPLEMENTARY INFORMATION: In order to permit the FDIC to detect discrimination in residential mortgage lending, certain insured state nonmember banks are required by FDIC regulation 12 CFR 338 to maintain various data on home loan applicants.

3. Type of Review: Renewal of a currently approved collection.

Title: Public Disclosure by Banks.

OMB Number: 3064-0090.

Annual Burden:

Estimated annual number of respondents: 5,500.

Estimated time per response: 0.5 hours.

Total annual burden hours: 2,750 hours.

Expiration Date of OMB Clearance: July 31, 2003.

SUPPLEMENTARY INFORMATION: 12 CFR 350 requires a bank to notify the general public, In order to permit the FDIC to detect discrimination in residential mortgage lending, certain insured state nonmember banks are required by FDIC regulation 12 CFR 338 to maintain various data on home loan applicants.

4. Type of Review: Renewal of a currently approved collection.

Title: Procedures for Monitoring Bank Protection Act Compliance.

OMB Number: 3064-0095.

Annual Burden:

Estimated annual number of respondents: 5,500.

Estimated time per response: 1/2 hour.

Total annual burden hours: 2,750 hours.

Expiration Date of OMB Clearance: July 31, 2003.

SUPPLEMENTARY INFORMATION: The collection requires insured state nonmember banks to comply with the Bank Protection Act and to review bank security programs.

OMB Reviewer: Joseph F. Lackey, Jr., (202) 395-4741, Office of Management and Budget, Office of Information and Regulatory Affairs, Washington, DC 20503.

FDIC Contact: Tamara R. Manly, (202) 898-7453, Legal Division, Room MB 3109, Federal Deposit Insurance Corporation, 550 17th Street NW., Washington, DC 20429.

Comments: Comments on these collections of information are welcome and should be submitted on or before July 23, 2003 to both the OMB reviewer and the FDIC contact listed above.

ADDRESSES: Information about this submission, including copies of the proposed collections of information, may be obtained by calling or writing the FDIC contact listed above.

Dated: June 18, 2003.
Federal Deposit Insurance Corporation
Robert E. Feldman,
Executive Secretary.

[FR Doc. 03-15786 Filed 6-20-03; 8:45 am]

BILLING CODE 6714-01-P